DEPARTMENT OF HOUSING AND URBAN DEVELOPMENT

[Docket No. FR-5777-N-01]

Multifamily, Health Care Facilities, and Hospital Mortgage Insurance Premiums for Fiscal Year (FY) 2015

AGENCY: Office of the Assistant Secretary for Housing—Federal Housing Commissioner, HUD.

ACTION: Notice.

SUMMARY: In accordance with HUD regulations, this Notice announces the mortgage insurance premiums (MIPs) for Federal Housing Administration (FHA) Multifamily, Health Care Facilities, and Hospital mortgage insurance programs that have commitments to be issued or reissued in FY 2015. FY 2015 MIPs are the same as in FY 2014. This Notice does not apply to loans insured under the Risk Sharing programs of section 542(b) or 542(c) of the Housing and Community Development Act of 1992.

DATES: Effective Date: October 1, 2014.

FOR FURTHER INFORMATION CONTACT:

Multifamily Programs: Theodore K. Toon, Director, Office of Multifamily Development, Office of Housing, Department of Housing and Urban Development, 451 7th Street SW., Washington, DC 20410-8000, telephone number 202-402-8386 (this is not a toll free number).

Health Care and Hospital Programs: Roger M. Lukoff, MA, FACHE, Associate Deputy Assistant Secretary, FHA-Office of Healthcare Programs, United States Department of Housing and Urban Development, 451 Seventh Street SW.,—Room 6264, Washington, DC 20410. Telephone: 202-402-4762, FAX: 202-708-0560. Hearing or speech-impaired individuals may access these numbers via TTY by calling the Federal Relay Service at 800-877-8339 (this is a toll-free number).

SUPPLEMENTARY INFORMATION:

I. Background

HUD's mortgage insurance regulations at 24 CFR 207.254 provide as follows:

Notice of future premium changes will be published in the Federal Register. The Department will propose MIP changes for multifamily mortgage insurance programs and provide a 30-day public comment period for the purpose of accepting comments on whether the proposed changes are appropriate.

Under this regulation, HUD is required to publish a notice in the Federal Register for public comment only when there are premium changes. This notice announces that the FY 2015 MIPs are the same the FY 2014 MIPs, published in the Federal Register on September 20, 2013 (FR-5737-N-01). Since HUD is not seeking to implement any premium changes for FY 2015 for the mortgage insurance programs listed in this notice, HUD is not seeking public comment.

II. Positive Credit Subsidy Programs

The Department will continue to suspend issuance and reissuance of commitments under two programs that have previously required positive credit subsidy: Section 221(d)(3) New Construction/Substantial Rehabilitation (NC/SR) for Nonprofit/Cooperative Mortgagors without LIHTC and Section 223(d) Operating Loss Loans for Apartments.

The MIPs to be in effect for FHA Firm Commitments issued or reissued in FY 2015 are shown in the chart below:

Fiscal Year 2015 MIP Rates—Multifamily, Healthcare Facilities and Hospital Insurance Programs
| Basis points
FHA Multifamily
207 Multifamily Housing New Construction/Sub Rehab without LIHTC | 70
207 Multifamily Housing New Construction/Sub Rehab with LIHTC | 45
207 Manufactured Home Parks without LIHTC | 70
207 Manufactured Home Parks with LIHTC | 45
221(d)(3) New Construction/Substantial Rehabilitation (NC/SR) for Nonprofit/Cooperative mortgagor without LIHTC | N/A
221(d)(3) Limited dividend with LIHTC | 45
221(d)(4) NC/SR without LIHTC | 65
221(d)(4) NC/SR with LIHTC | 45
220 Urban Renewal Housing without LIHTC | 70
220 Urban Renewal Housing with LIHTC | 45
213 Cooperative | 70
207/223(f) Refinance or Purchase for Apartments without LIHTC | * 60
207/223(f) Refinance or Purchase for Apartments with LIHTC | * 45
223(a)(7) Refinance of Apartments without LIHTC | ** 50
223(a)(7) Refinance of Apartments with LIHTC | ** 45
223d Operating Loss Loan for Apartments | N/A
231 Elderly Housing without LIHTC | 70
231 Elderly Housing with LIHTC | 45
241(a) Supplemental Loans for Apartments/coop without LIHTC | 95
241(a) Supplemental Loans for Apartments/coop with LIHTC | 45
FHA Healthcare Facilities (Nursing Homes, ALF & B&C)
232 NC/SR Healthcare Facilities without LIHTC | 77
232 NC/SR—Assisted Living Facilities with LIHTC | 45
232/223(f) Refinance for Healthcare Facilities without LIHTC | *65
232/223(f) Refinance for Healthcare Facilities with LIHTC | * 45
223(a)(7) Refinance of Healthcare Facilities without LIHTC | ** 55
223(a)(7) Refinance of Healthcare Facilities with LIHTC | ** 45
223d Operating Loss Loan for Healthcare Facilities | 95
241(a) Supplemental Loans for Healthcare Facilities without LIHTC | 72
241(a) Supplemental Loans for Healthcare Facilities with LIHTC | 45
FHA Hospitals
242 Hospitals | 70
223(a)(7) Refinance of Existing FHA-insured Hospital | ** 55
223(f) Refinance or Purchase of Existing Non-FHA-insured Hospital | * 65
241(a) Supplemental Loans for Hospitals | 65
* The first-year or upfront MIP fee for loans insured under Section 223(f) for Multifamily, Health Care Facilities, and Hospital programs is 100 basis (one percent) points. The annual MIP amounts are otherwise shown above for the respective Section 223(f) programs.
** The first-year or upfront MIP fee for loans under Section 223(a)(7) for Multifamily, Health Care Facilities, and Hospital programs is 50 basis points. The annual MIP amounts are otherwise shown above for the respective Section 223(a)(7) programs.

III. Information Collection

The information collection requirements contained in this document have been approved by the Office of Management and Budget (OMB) under the Paperwork Reduction Act of 1995 (44 U.S.C. 3501-3520) and assigned OMB control number 2502-0500. In accordance with the Paperwork Reduction Act, HUD may not conduct or sponsor, and a person is not required to respond to, a collection of information unless the collection displays a currently valid OMB control number.

Dated: March 26, 2014.
Carol J. Galante,
Assistant Secretary for Housing—Federal Housing Commissioner.

[FR Doc. 2014-07153 Filed 3-28-14; 8:45 am]

BILLING CODE 4210-67-P